DEPARTMENT OF DEFENSE

Office of the Secretary

Office of the Secretary of Defense (Health Affairs)/TRICARE Management Activity

AGENCY: Department of Defense.

ACTION: Notice of an Extension of a TRICARE Demonstration Project for the State of Alaska.

SUMMARY: This notice is to advise interested parties of the extension of a Military Health System (MHS) demonstration project entitled “TRICARE Demonstration Project for the State of Alaska.” The original demonstration notice was published on May 18, 2004 (69 FR 28124-28125) and described a demonstration project to exempt from the TRICARE managed care support contract for the Western Region the underwriting provisions for the cost of civilian health care in the State of Alaska. The demonstration was to be conducted for up to five years after the start of health care delivery under the contract and therefore is scheduled to end on March 31, 2009. The demonstration project will now be extended for one additional year (March 31, 2010).

DATES: Effective Date: The extension of the demonstration will be effective April 1, 2009.

FOR FURTHER INFORMATION CONTACT: Mr. Michael O'Bar, Office of the Assistant Secretary of Defense (Health Affairs)—TRICARE Management Activity, TRICARE Policy and Operations Directorate, 5111 Leesburg Pike, Suite 810, Falls Church, VA 22041-3206; telephone (703) 681-0039.

SUPPLEMENTARY INFORMATION:

A. Background

For additional information on the TRICARE Demonstration Project for the State of Alaska, please see 69 FR 28124-28125. The demonstration notice focused on the unique situation involved in the delivery of health care services in the State of Alaska which cannot be addressed fully by applying all of the at-risk standards that apply to the TRICARE managed care support contracts under which services are provided in the other 49 states without some modification. Under the extended demonstration, the current Western Region managed care support contractor will continue to be exempt from the underwriting provisions for the cost of civilian health care in the State of Alaska. The contractor shall provide all the services required for Alaska as specified in the TRICARE Operations Manual, Chapter 23, but will not be responsible for the underwriting fee associated with providing those services under that chapter. All other provisions contained in the TRICARE managed care support contract, TRICARE Operations Manual (6010.51-M), TRICARE Policy Manual (6010.54-M), TRICARE Systems Manual (7950.1-M), and TRICARE Reimbursement Manual (6010.55-M), shall apply in Alaska.

B. Description of Extension of Demonstration Project

The demonstration project will now be extended for one additional year (March 31, 2010).

Dated: February 17, 2009.
Patricia Toppings,
OSD Federal Register Liaison Officer, Department of Defense.

[FR Doc. E9-3706 Filed 2-20-09; 8:45 am]

BILLING CODE 5001-06-P